DEPARTMENT OF HOMELAND SECURITY

Coast Guard

[Docket Number USCG-2025-0094]

Imposition of Conditions of Entry for Vessels Arriving to the United States From the Republic of Cuba

AGENCY: Coast Guard, DHS.

ACTION: Notice.

SUMMARY: The Coast Guard announces that it will impose conditions of entry on vessels arriving from the Republic of Cuba. Conditions of entry are intended to protect the United States from vessels arriving from foreign ports or places that have been found to have deficient anti-terrorism measures.

DATES: The policy announced in this notice is effective on April 2, 2025.

FOR FURTHER INFORMATION CONTACT: For information about this document call or email Mr. Edward X. Munoz, Division Chief, International Port Security Assessments, United States Coast Guard, telephone 202-372-2122, Edward.X.Munoz@uscg.mil.

SUPPLEMENTARY INFORMATION:

Background and Purpose

The authority for this notice is 5 U.S.C. 552(a), 46 U.S.C. 70110 (“Maritime Transportation Security Act”), and Department of Homeland Security Delegation No. 00170.1(II) (97.f), Revision No. 01.4. As delegated, 46 U.S.C. 70110(a) authorizes the Coast Guard to impose conditions of entry on vessels arriving in U.S. waters from foreign ports that the Coast Guard has not found to maintain effective anti-terrorism measures. Section 70108, as amended by section 5603 of the National Defense Authorization Act for Fiscal Year 2024 (Pub. L. 118-31, Dec. 22, 2023), states that DHS shall deem any port under the jurisdiction of a foreign government that is a state sponsor of terrorism as not having effective anti-terrorism measures, and immediately apply the sanctions described in 46 U.S.C. 70110(a) to such a port.

In accordance with 46 U.S.C. 70108, as amended, and the Department of State's designation of the Republic of Cuba as a State Sponsor of Terrorism, the Coast Guard finds that Cuba does not have effective anti-terrorism measures.

With this notice, the current list of countries assessed and not maintaining effective anti-terrorism measures is as follows: Cambodia, Cameroon, Comoros, Cuba, Djibouti, Equatorial Guinea, The Gambia, Guinea-Bissau, Iran, Iraq, Libya, Madagascar, Federated States of Micronesia, Nauru, Nigeria, Sao Tome and Principe, Seychelles, Sudan, Syria, Timor-Leste, Venezuela, and Yemen. The current Port Security Advisory is available at: http://www.dco.uscg.mil/Our-Organization/Assistant-Commandant-for-Prevention-Policy-CG-5P/International-Domestic-Port-Assessment/.

Dated: February 19, 2025.
Thomas G. Allan,
Vice Admiral, Deputy Commandant for Operations, Acting, U.S. Coast Guard.

[FR Doc. 2025-04597 Filed 3-18-25; 8:45 am]

BILLING CODE 9110-04-P